DEPARTMENT OF ENERGY

Federal Energy Regulatory Commission

Combined Notice of Filings #2

Take notice that the Commission received the following electric corporate filings:

Docket Numbers: EC14-23-000.

Applicants: CPV Shore, LLC.

Description: Section 203 Application for Disposition of Jurisdictional Facilities of CPV Shore, LLC.

Filed Date: 11/6/13.

Accession Number: 20131106-5081.

Comments Due: 5 p.m. ET 11/27/13.

Take notice that the Commission received the following electric rate filings:

Docket Numbers: ER14-335-000.

Applicants: PJM Interconnection, L.L.C.

Description: PJM Interconnection, L.L.C. submits Notice of Cancellation of Original Service Agreement No. 3147, Queue W4-103 to be effective 9/30/2013.

Filed Date: 11/6/13.

Accession Number: 20131106-5082.

Comments Due: 5 p.m. ET 11/27/13.

Docket Numbers: ER14-336-000.

Applicants: Sunwave USA Holdings, Inc.

Description: Sunwave USA Holdings, Inc. submits Sunwave USA Holdings, Inc. MBR Tariff Filing to be effective 12/1/2013.

Filed Date: 11/6/13.

Accession Number: 20131106-5095.

Comments Due: 5 p.m. ET 11/27/13.

Docket Numbers: ER14-337-000.

Applicants: Southwestern Public Service Company.

Description: Southwestern Public Service Company submits 11-6-13_RS114 SPS-CVEC Op Proc 1 to be effective 11/4/2013.

Filed Date: 11/6/13.

Accession Number: 20131106-5103.

Comments Due: 5 p.m. ET 11/27/13.

Docket Numbers: ER14-338-000.

Applicants: Southwestern Public Service Company.

Description: Southwestern Public Service Company submits 11-6-13_RS115 SPS-FEC Op Proc 1 to be effective 11/4/2013.

Filed Date: 11/6/13.

Accession Number: 20131106-5108.

Comments Due: 5 p.m. ET 11/27/13.

Docket Numbers: ER14-339-000.

Applicants: Southwestern Public Service Company.

Description: Southwestern Public Service Company submits 11-6-13_RS116 SPS-LCEC Op Proc 1 to be effective 11/4/2013.

Filed Date: 11/6/13.

Accession Number: 20131106-5111.

Comments Due: 5 p.m. ET 11/27/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2013.
Nathaniel J. Davis, Sr.,
Deputy Secretary.

[FR Doc. 2013-27388 Filed 11-14-13; 8:45 am]

BILLING CODE 6717-01-P